INTERNATIONAL TRADE COMMISSION

[Investigation No. 731-TA-860 (Third Review)]

Tin- and Chromium-Coated Steel Sheet From Japan; Revised Schedule for Full Five-Year Review

AGENCY: United States International Trade Commission.

ACTION: Notice.

DATES: Date of Approval.

FOR FURTHER INFORMATION CONTACT: Robert Casanova (202-708-2719), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this review may be viewed on the Commission's electronic docket (EDIS) at https://edis.usitc.gov.

SUPPLEMENTARY INFORMATION: On October 20, 2017, the Commission initially established a schedule for conducting the full five-year review (82 FR 49661, October 26, 2017). The Commission is revising its schedule.

The Commission's new schedule for the review is as follows: supplemental comments are due on May 4, 2018; the Commission will make its final release of information on May 18, 2018; and parties may submit final comments on this information on or before May 25, 2018.

The Commission invites all parties to provide comments limited only to the extent to which tariffs resulting from the Section 232 investigations and the White House proclamations on aluminum and steel imports (and country exemptions from those tariffs) should be considered as relevant economic factors in the Commission's evaluation of the likely impact of subject imports on the domestic industry producing tin- and chromium-coated steel sheet. All parties must file a confidential version of its submission with the Secretary and serve all APO parties on or before May 4 and a public version must be filed with the Secretary no later than the close of business on the following day. The submission must be limited to no more than ten pages of material and ten pages of exhibits.

For further information concerning this review see the Commission's notice cited above and the Commission's Rules of Practice and Procedure, part 201, subparts A through E (19 CFR part 201), and part 207, subparts A, D, E, and F (19 CFR part 207).

The Commission has determined this review is extraordinarily complicated and therefore has determined to exercise its authority to extend the review period by up to 90 days pursuant to 19 U.S.C. 1675(c)(5)(B).

Authority: This review is being conducted under authority of title VII of the Tariff Act of 1930; this notice is published pursuant to section 207.62 of the Commission's rules.

By order of the Commission.
Issued: April 3, 2018.
Lisa Barton,
Secretary to the Commission.

[FR Doc. 2018-07098 Filed 4-5-18; 8:45 am]

BILLING CODE 7020-02-P